DEPARTMENT OF ENERGY

Federal Energy Regulatory Commission

Combined Notice of Filings #2

August 2, 2005.

Take notice that the Commission received the following electric rate filings:

Docket Numbers: ER01-316-017.

Applicants: ISO New England Inc.

Description: ISO New England Inc. submits its Index of Customers for the second quarter of 2005 under the ISO's FERC Tariff for Transmission Dispatch and Power Administration Services.

Filed Date: 7/27/2005.

Accession Number: 20050728-0205.

Comment Date: 5 p.m. Eastern Time on Wednesday, August 17, 2005.

Docket Numbers: ER02-1942-002.

Applicants: Tenaska Virginia Partners, L.P.

Description: Tenaska Virginia Partners L.P. submits its Triennial Updated Market Analysis and its revised Rate Schedule 1, Original Volume No. 1 incorporating the Commission's change in status reporting requirement adopted in Order No. 652.

Filed Date: 7/27/2005.

Accession Number: 20050729-0001.

Comment Date: 5 p.m. Eastern Time on Wednesday, August 17, 2005.

Docket Numbers: ER04-691-058; ER04-106-014; EL04-104-044.

Applicants: Midwest Independent Transmission System Operator, Inc.

Description: Midwest Independent Transmission System Operator, Inc. submits proposed revisions to its Open Access Transmission and Energy Markets Tariff, FERC Electric Tariff, Third Revised Volume No. 1, in compliance with the Commission's order issued 6/27/05, 111 FERC 61,491 (2005).

Filed Date: 7/27/2005

Accession Number: 20050728-0204.

Comment Date: 5 p.m. Eastern Time on Wednesday, August 17, 2005.

Docket Numbers: ER05-1025-001.

Applicants: California Independent System Operator Corporation.

Description: California Independent System Operator Corporation (CAISO) submits response to the Commission deficiency letter issued 7/8/05 regarding CAISO's 5/25/05 filing submitting Amendment No. 70 to its open access transmission tariff.

Filed Date: 7/27/2005.

Accession Number: 20050729-0003.

Comment Date: 5 p.m. Eastern Time on Wednesday, August 17, 2005.

Docket Numbers: ER05-1178-001.

Applicants: Gila River Power, L.P.

Description: Gila River Power, L.P. amends its 6/30/05 filing in Docket No. ER05-1178-000 by submitting substitute tariff sheets and submitting a change in status notification.

Filed Date: 7/27/2005.

Accession Number: 20050729-0004.

Comment Date: 5 p.m. Eastern Time on Wednesday, August 17, 2005.

Docket Numbers: ER05-1191-001.

Applicants: Union Power Partners, L.P.

Description: Union Power Partners, LP amends its 6/30/05 filing in Docket No. ER05-1191-000 by submitting additional revised tariff sheets and a Substitute First Revised Sheet No. 2 and submitting a change in status notification.

Filed Date: 7/27/2005.

Accession Number: 20050729-0005.

Comment Date: 5 p.m. Eastern Time on Wednesday, August 17, 2005.

Docket Numbers: ER05-1250-000.

Applicants: ISO New England, Inc.; New England Hydro-Transmission Electric Company, Inc.; New England Hydro-Transmission Corporation; New England Electric Transmission Corporation; Vermont Electric Transmission Company.

Description: ISO New England, Inc., New England Hydro-Transmission Electric Company, Inc., New England Hydro-Transmission Corporation, New England Electric Transmission Corporation and Vermont Electric Transmission Company submit the final executed versions of the English-French translated versions of two contracts related to the tariff schedules and agreements that the Commission accepted on May 25, 2005, in Docket No. ER05-754.

Filed Date: 7/27/2005.

Accession Number: 20050728-0191.

Comment Date: 5 p.m. Eastern Time on Wednesday, August 17, 2005.

Docket Numbers: ER98-2603-004.

Applicants: Southwood 2000, Inc.

Description: Southwood 2000, Inc. submits its updated market power study.

Filed Date: 7/27/2005.

Accession Number: 20050729-0006.

Comment Date: 5 p.m. Eastern Time on Wednesday, August 17, 2005.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St. NE., Washington, DC 20426.

The filings in the above proceedings are accessible in the Commission's eLibrary system by clicking on the appropriate link in the above list. They are also available for review in the Commission's Public Reference Room in Washington, DC. There is an eSubscription link on the Web site that enables subscribers to receive email notification when a document is added to a subscribed dockets(s). For assistance with any FERC Online service, please e-mail FERCOnlineSupport@ferc.gov. or call (866) 208-3676 (toll free). For TTY, call (202) 502-8659.

Linda Mitry,
Deputy Secretary.

[FR Doc. E5-4282 Filed 8-8-05; 8:45 am]

BILLING CODE 6717-01-P